DEPARTMENT OF THE INTERIOR

Bureau of Ocean Energy Management, Regulation and Enforcement

Outer Continental Shelf, Alaska OCS Region, Chukchi Sea Planning Area, Oil and Gas Lease Sale 193

AGENCY: Bureau of Ocean Energy Management, Regulation and Enforcement, Interior.

ACTION: Notice of Availability of a Final Supplemental Environmental Impact Statement

SUMMARY: The Bureau of Ocean Energy Management, Regulation and Enforcement (BOEMRE) announces the availability of a Final Supplemental Environmental Impact Statement (SEIS) for Outer Continental Shelf (OCS) Oil and Gas Lease Sale 193, Chukchi Sea, Alaska (OCS EIS/EA BOEMRE 2011-041).

BOEMRE prepared this Final SEIS pursuant to: (1) The National Environmental Policy Act of 1969 (NEPA), as amended, 42 U.S.C. 4321 et seq., the Council on Environmental Quality (CEQ) regulations that implement the procedural provisions of NEPA (40 CFR parts 1500-1508); and (2) the July 21, 2010, remand order issued by the United States District Court for the District of Alaska. The Final SEIS augments the analysis of the Final EIS, Oil and Gas Lease Sale 193, Chukchi Sea Planning Area (OCS EIS/EA MMS 2007-026).

BOEMRE will issue a NEPA Record of Decision after the 30-day period during which the Final SEIS is available. BOEMRE gives this notice of availability in accordance with Council on Environmental Quality regulations at 40 CFR 1506.6 (b).

FOR FURTHER INFORMATION CONTACT: Ms. Sharon Warren or Mr. Mike Routhier, Bureau of Ocean Energy Management, Regulation and Enforcement, Alaska OCS Region, 3801 Centerpoint Drive, Suite 500, Anchorage, Alaska 99503-5820. You may contact Ms. Warren or Mr. Routhier by telephone at 907-334-5200.

SUPPLEMENTARY INFORMATION: In May 2007, BOEMRE (formerly the Minerals Management Service (MMS)) published the Final EIS for Oil and Gas Lease Sale 193, Chukchi Sea (OCS EIS/EA MMS 2007-0026), which evaluated the potential effects of the proposed sale and three alternatives: a no action alternative, and two alternatives that incorporate deferral areas of varying size along the coastward edge of the proposed sale area.

On January 31, 2008, plaintiffs filed a lawsuit challenging Chukchi Sea Oil and Gas Lease Sale 193, alleging violations of NEPA and the Endangered Species Act with the United States District Court for the District of Alaska (District Court) [Native Village of Point Hope et al., v. Salazar, No. 1:08-cv-00004-RRB (D. Alaska)]. BOEMRE conducted the sale in February 2008. BOEMRE received high bids totaling approximately $2.6 billion and issued 487 leases.

In July 2010, the District Court remanded the matter for further NEPA analysis in accordance with its order. The District Court amended this order in August 2010. The District Court directed BOEMRE to address three concerns: (1) Analyze the environmental impact of natural gas development; (2) determine whether missing information identified by BOEMRE in the Final EIS for Chukchi Sea Lease Sale 193 was essential or relevant under 40 CFR 1502.22; and (3) determine whether the cost of obtaining the missing information was exorbitant, or the means of doing so unknown.

BOEMRE: (1) Completed Chukchi Sea Planning Area Oil and Gas Lease Sale 193 in the Chukchi Sea, Alaska, Draft Supplemental EIS (“SEIS”) OCS EIS/EA BOEMRE 2010-034 addressing each of these concerns; (2) published the Draft SEIS for public comment on October 15, 2010; and (3) provided a 45-day comment period. BOEMRE received over 150,000 comments on the Draft SEIS. Citing the Deepwater Horizon oil spill, many commenters requested an analysis of a potential blowout and oil spill during exploration. In response to those comments, BOEMRE determined it appropriate to provide analysis of a very large oil spill (“VLOS”) from a hypothetical exploration well blowout. BOEMRE prepared the Chukchi Sea Planning Area Oil and Gas Lease Sale 193 in the Chukchi Sea, Alaska, Revised Draft Supplemental SEIS OCS EIS/EA BOEMRE 2010-034 with the VLOS analysis and those issues under remand.

On May 27, 2011, the Federal Register published a Notice of Availability of the Revised Draft SEIS for a 45-day public comment for BOEMRE and Notice of BOEMRE filing the Revised Draft EIS with the Environmental Protection Agency. The public comment period officially closed on July 11, 2011. During the Revised Draft SEIS public comment period, BOEMRE received over 360,000 comment letters and cards from Federal Agencies, state and local governments, Alaska Native tribes, interested groups, and members of the public.

The Final SEIS completes the environmental review process and responds to the District Court's remand order. The Final SEIS will provide the Secretary of Interior with sufficient information and analysis to make an informed decision on whether to affirm, modify, or cancel Chukchi Sea Oil and Gas Lease Sale 193.

Final SEIS Availability: To obtain a printed copy or CD-ROM of the Final SEIS, you may contact the BOEMRE, Alaska OCS Region, 3801 Centerpoint Drive, Suite 500, Anchorage, Alaska 99503-5820, telephone 907-334-5200. You may also view the Final SEIS at the above address, on the BOEMRE Web site at http://alaska.boemre.gov, or at the Alaska Resources Library and Information Service, 3211 Providence Drive, Suite III. Anchorage, Alaska.

Comments: You may submit your comments on the Final SEIS only by one of the following two methods:

1. Mail or Delivery: In written form enclosed in an envelope labeled “Comments on Final SEIS, Chukchi Sea Lease Sale 193” to the Regional Director, Bureau of Ocean Energy Management, Regulation and Enforcement, Alaska OCS Region, 3801 Centerpoint Drive, Suite 500, Anchorage, Alaska 99503-5820. BOEMRE will accept hand deliveries during regular business hours—8 a.m. to 4:30 p.m., Monday through Friday, excluding holidays.

2. Federal eRulemaking Portal: Go to http://www.regulations.gov.

Please do not use alternative means to send your comments through the Internet. BOEMRE will not consider comments submitted other than by the above two methods. For BOEMRE to consider your comments, BOEMRE must receive your comments on or before 30 days after the publication of this notice. BOEMRE cautions that before including your address, phone number, e-mail address, or other personal identifying information in your comment, you should be aware that your entire comment, including your personal identifying information, may be made publically available at any time. While you may ask BOEMRE (prominently at the beginning of your submission) to withhold your personal identifying information from public view, BOEMRE cannot guarantee that it will be able to do so. BOEMRE will not consider anonymous comments.

Dated: August 1, 2011.
L. Renee Orr,
Acting Associate Director for Offshore Energy and Minerals Management.

[FR Doc. 2011-21916 Filed 8-25-11; 8:45 am]

BILLING CODE 4310-MR-P